ENVIRONMENTAL PROTECTION AGENCY

[FRL OP-OFA-059]

Environmental Impact Statements; Notice of Availability

Responsible Agency: Office of Federal Activities, General Information 202-564-5632 or https://www.epa.gov/nepa.

Weekly receipt of Environmental Impact Statements (EIS)

Filed February 17, 2023 10 a.m. EST Through February 27, 2023 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20230035, Final, USAF, ID, Airspace Optimization for Readiness for Mountain Home Air Force Base, Review Period Ends: 04/03/2023, Contact: Austin Naranjo 208-828-6800.

EIS No. 20230036, Final, FERC, NC, Southside Reliability Enhancement Project, Review Period Ends: 04/03/2023, Contact: Office of External Affairs 866-208-3372.

EIS No. 20230037, Draft, NRC, REG, Draft Generic Environmental Impact Statement for License Renewal of Nuclear Plants (NUREG-1437) Volume 1 and 2, Revision 2, Comment Period Ends: 05/02/2023, Contact: Kevin T. Folk 301-415-6944.

EIS No. 20230038, Final, NOAA, CA, Amendment 6 to the Fishery Management Plan for West Coast Highly Migratory Species Fisheries: Authorization of Deep-set Buoy Gear, Review Period Ends: 04/03/2023, Contact: Karter Harmon 317-517-7783.

Dated: February 27, 2023.
Marthea Rountree,
Acting Director, NEPA Compliance Division, Office of Federal Activities.

[FR Doc. 2023-04397 Filed 3-2-23; 8:45 am]

BILLING CODE 6560-50-P